DEPARTMENT OF DEFENSE

Office of the Secretary

[Docket ID: DOD-2010-OS-0009]

Privacy Act of 1974; Systems of Records

AGENCY: Defense Logistics Agency, DoD.

ACTION: Notice to alter a system of records.

SUMMARY: The Defense Logistics Agency proposes to alter a system of records notice in its existing inventory of records systems subject to the Privacy Act of 1974 (5 U.S.C. 552a), as amended.

DATES: This proposed action will be effective without further notice on March 8, 2010, unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler at (703) 767-5045.

SUPPLEMENTARY INFORMATION: The Defense Logistics Agency systems of records notices subject to the Privacy Act of 1974 (5 U.S.C. 552a), as amended, have been published in the Federal Register and are available from the address above.

The proposed system reports, as required by 5 U.S.C. 552a(r) of the Privacy Act of 1974 as amended, were submitted on January 29, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: February 1, 2010.
Mitchell S. Bryman,
Alternate OSD Federal Register Liaison Officer, Department of Defense.

S600.30

System name:

Safety, Health, Injury, and Accident Records (November 9, 2006; 71 FR 65781).

Changes:

* * * * *

System location:

Delete entry and replace with “Occupational Safety and Health Office, Headquarters, Defense Logistics Agency, ATTN: DES, 8725 John J. Kingman Road, Stop 6220, Fort Belvoir, VA 22060-6221, and the DLA Primary Level Field Activity Safety and Health Offices. Official mailing addresses are published as an appendix to DLA's compilation of systems of records notices.”

* * * * *

Categories of records in the system:

Delete entry and replace with “Employee's name; Social Security Number (SSN) or foreign national number; title; grade; career group; gender; date of birth; home address; place of employment; photographs; safety, health, injury, and accident record case number; proposed or actual corrective action; where appropriate; the name of physician/health care professional providing treatment; company providing medical treatment; and the address of the medical providers. Information is collected on DLA Form 1591, Supervisory Mishap Report.”

Authority for maintenance of the system:

Delete entry and replace with “10 U.S.C. 136, Under Secretary of Defense for Personnel and Readiness; 29 U.S.C. 651 et seq., The Occupational Safety and Health Act of 1970 (OSHA); E.O. 12196, Occupational Safety and Health Programs for Federal Employees; 29 CFR part 1960, Subpart I, Recordkeeping and Reporting Requirements for Federal Occupational Safety and Health Programs; DoD Instruction 6055.1, DoD Safety and Occupational Health (SOH) Program; DoD Instruction 6055.7, Mishap Notification, Investigation, Reporting, and Recordkeeping; and E.O. 9397 (SSN), as amended.”

Purpose(s):

Delete entry and replace with “Information is collected to comply with regulatory reporting requirements. Details about the accident site will be used to identify and correct known or potential hazards and to formulate improved accident prevention programs. The data, with all personal identifiers removed, may be used to prepare statistical reports.”

Routine uses of records maintained in the system, including categories of users and the purposes of such uses:

“In addition to those disclosures generally permitted under 5 U.S.C. 552a(b) of the Privacy Act of 1974, these records contained therein may specifically be disclosed outside the DoD as a routine use pursuant to 5 U.S.C. 552a(b)(3) as follows:

Information from safety, health, injury, and accident records may be disclosed to the Department of Labor and Occupational Safety and Health Administration (OSHA), to comply with requirements of 29 CFR part 1960.

The DoD “Blanket Routine Uses” also apply to this system of records.”

* * * * *

Safeguards:

Delete entry and replace with “The security risks associated with maintaining data in an electronic environment have been mitigated through administrative, technical and physical safeguards described in this document. The safeguards in place are commensurate with the risk and magnitude of harm resulting from the loss, misuse, or unauthorized access to or modification of the data. Administrative, physical and technical safeguards employed by the DLA, Safety and Occupational Health Division are commensurate with the sensitivity of personal data to ensure preservation of integrity and to preclude unauthorized use/disclosure. Access is limited to those individuals who require the records in performance of their official duties. These authorized personnel receive initial and Annual IA Training in the operation of security policies. Individuals requiring access to sensitive information are processed for access authorization in accordance with DoD personnel security policy. Access is further restricted by the use of a Common Access Card (CAC). Physical entry is restricted by the use of locks, guards, and administrative procedures.”

* * * * *

System manager(s) and address:

Delete entry and replace with “Director, Occupational Safety and Health Office, Headquarters, Defense Logistics Agency, ATTN: DES, 8725 John J. Kingman Road, Stop 6220, Fort Belvoir, VA 22060-6221.”

Notification procedure:

Delete entry and replace with “Individuals seeking to determine whether information about themselves is contained in this system of records should address written inquiries to the Privacy Act Office, Headquarters, Defense Logistics Agency, ATTN: DGA, 8725 John J. Kingman Road, Suite 1644, Fort Belvoir, VA 22060-6221.

Inquiry should contain the individual's full name, Social Security Number (SSN), or safety, health, injury, and accident records case number (if known).”

Record access procedures:

Delete entry and replace with “Individuals seeking access to information about themselves contained in this system of records should address written inquiries to the Privacy Act Office, Headquarters, Defense Logistics Agency, ATTN: DGA, 8725 John J. Kingman Road, Suite 1644, Fort Belvoir, VA 22060-6221.

Inquiry should contain the individual's full name, Social Security Number (SSN), or safety, health, injury, and accident records case number (if known).”

Contesting record procedures:

Delete entry and replace with “The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.”

Record source categories:

Delete entry and replace with “Record subject, supervisors, medical units, security offices, police, fire departments, investigating officers, witnesses to accident, or Defense Civilian Personnel Data System (DCPDS).”

* * * * *

S600.30

System name:

Safety, Health, Injury, and Accident Records.

System location:

Occupational Safety and Health Office, Headquarters, Defense Logistics Agency, ATTN: DES, 8725 John J. Kingman Road, Stop 6220, Fort Belvoir, VA 22060-6221, and the DLA Primary Level Field Activity Safety and Health Offices. Official mailing addresses are published as an appendix to DLA's compilation of systems of records notices.

Categories of individuals covered by the system:

All individuals who suffer accidents, become injured or ill, or otherwise require emergency rescue or medical assistance while on DLA facilities.

Categories of records in the system:

Employee's name; Social Security Number (SSN) or foreign national number; title; grade; career group; gender; date of birth; home address; place of employment; photographs; safety, health, injury, and accident record case number; proposed or actual corrective action; where appropriate; the name of physician/health care professional providing treatment; company providing medical treatment; and the address of the medical providers. Information is collected on DLA Form 1591, Supervisory Mishap Report.

Authority for maintenance of the system:

10 U.S.C. 136, Under Secretary of Defense for Personnel and Readiness; 29 U.S.C. 651 et seq., The Occupational Safety and Health Act of 1970 (OSHA); E.O. 12196, Occupational Safety and Health Programs for Federal Employees; 29 CFR part 1960, subpart I, Recordkeeping and Reporting Requirements for Federal Occupational Safety and Health Programs; DoD Instruction 6055.1, DoD Safety and Occupational Health (SOH) Program; DoD Instruction 6055.7, Mishap Notification, Investigation, Reporting, and Recordkeeping and E.O. 9397 (SSN), as amended.

Purpose(s):

Information is collected to comply with regulatory reporting requirements. Details about the accident site will be used to identify and correct known or potential hazards and to formulate improved accident prevention programs. The data, with all personal identifiers removed, may be used to prepare statistical reports.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

Information from safety, health, injury, and accident records may be disclosed to the Department of Labor and Occupational Safety and Health Administration (OSHA), to comply with requirements of 29 CFR part 1960.

The DoD “Blanket Routine Uses” also apply to this system of records.

Policies and practices for storing, retrieving, accessing, retaining, and disposing of records in the system:

Storage:

Records may be stored on paper and/or on electronic storage media.

Retrievability:

Retrieved by name, Social Security Number (SSN), or safety, health, injury, and accident records case number.

Safeguards:

The security risks associated with maintaining data in an electronic environment have been mitigated through administrative, technical and physical safeguards described in this document. The safeguards in place are commensurate with the risk and magnitude of harm resulting from the loss, misuse, or unauthorized access to or modification of the data. Administrative, physical and technical safeguards employed by the DLA, Safety and Occupational Health Division are commensurate with the sensitivity of personal data to ensure preservation of integrity and to preclude unauthorized use/disclosure. Access is limited to those individuals who require the records in performance of their official duties. These authorized personnel receive initial and Annual IA training in the operation of Security policies. Individuals requiring access to sensitive information are processed for access authorization in accordance with DoD personnel security policy. Access is further restricted by the use of a Common Access Card (CAC). Physical entry is restricted by the use of locks, guards, and administrative procedures.

Retention and disposal:

Cases involving reportable mishaps are destroyed five years after case is closed. Cases involving non-reportable mishaps are destroyed three years after case is closed. Documentation of fire department activities and actions pertaining to fire/emergency calls are destroyed after 7 years.

System manager(s) and address:

Director, Occupational Safety and Health Office, Headquarters, Defense Logistics Agency, ATTN: DES, 8725 John J. Kingman Road, Stop 6220, Fort Belvoir, VA 22060-6221.

Notification procedure:

Individuals seeking to determine whether information about themselves is contained in this system of records should address written inquiries to the Privacy Act Office, Headquarters, Defense Logistics Agency, ATTN: DGA, 8725 John J. Kingman Road, Suite 1644, Fort Belvoir, VA 22060-6221.

Inquiry should contain the individual's full name, Social Security Number (SSN), or safety, health, injury, and accident records case number (if known).

Record access procedures:

Individuals seeking access to information about themselves contained in this system of records should address written inquiries to the Privacy Act Office, Headquarters, Defense Logistics Agency, ATTN: DGA, 8725 John J. Kingman Road, Suite 1644, Fort Belvoir, VA 22060-6221.

Inquiry should contain the individual's full name, Social Security Number (SSN), or safety, health, injury, and accident records case number (if known).

Contesting record procedures:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

Record source categories:

Record subject, supervisors, medical units, security offices, police, fire departments, investigating officers, witnesses to accident, or Defense Civilian Personnel Data System (DCPDS).

Exemptions claimed for the system:

None.

[FR Doc. 2010-2441 Filed 2-4-10; 8:45 am]

BILLING CODE 5001-06-P